DEPARTMENT OF THE INTERIOR

Bureau of Reclamation

[RR03510000, XXXR0680R1, RR171260120019400]

Draft Environmental Impact Statement, Pure Water San Diego Program, North City Project; San Diego County, California

AGENCY: Bureau of Reclamation, Interior.

ACTION: Notice of availability; request for comments.

SUMMARY: The Bureau of Reclamation and the City of San Diego have completed a draft Environmental Impact Report/Environmental Impact Statement (EIR/EIS) to evaluate the effects of the North City Project, the first phase of the Pure Water San Diego Program (Pure Water Program). The Pure Water Program is a water and wastewater facilities plan to produce potable water from recycled water.

DATES: Please submit written comments no later than January 8, 2018.

ADDRESSES: Send written comments to Doug McPherson, Southern California Area Office, Bureau of Reclamation, 27708 Jefferson Avenue, Suite 202, Temecula, CA 92590; or email to dmcpherson@usbr.gov.

FOR FURTHER INFORMATION CONTACT: Doug McPherson, Environmental Protection Specialist, Bureau of Reclamation, Southern California Area Office, 27708 Jefferson Avenue, Suite 202, Temecula, CA 92590; telephone: (951) 695-5310; facsimile: (951) 695-5319; or email: dmcpherson@usbr.gov.

SUPPLEMENTARY INFORMATION: The Pure Water Program consists of the design and construction of new advanced water treatment facilities, wastewater treatment facilities, pump stations, and pipelines.

The proposed project will expand the existing North City Water Reclamation Plant and construct an adjacent North City Pure Water Facility with a purified water pipeline to Miramar Reservoir. A project alternative would install a longer pipeline to deliver product water to the San Vicente Reservoir.

Other project components include: A new pump station and forcemain to deliver additional wastewater to the North City Water Reclamation Plant, a brine discharge pipeline, and upgrades to the existing Metropolitan Biosolids Center to accommodate additional biosolids from the increased treatment capacity at the North City Water Reclamation Plant.

A new North City Renewable Energy Facility is proposed and would be constructed at the North City Water Reclamation Plant to receive landfill gas from the City's Miramar Landfill gas collection system via a new gas pipeline, providing power to some of the North City Project components. The landfill gas line would cross Marine Corps Air Station Miramar and the Miramar National Cemetery.

The Bureau of Reclamation issued a Notice of Intent on August 5, 2016 (81 FR 51937). The United States Marine Corps, the Veterans Administration, and the Environmental Protection Agency have each accepted cooperating agency status.

The draft EIR/EIS and technical appendices are available on the City of San Diego Web site at: https://www.sandiego.gov/water/purewater/purewatersd/reports.

Public Disclosure

Before including your address, phone number, email address, or other personal identifying information in your comment, you should be aware that your entire comment—including your personal identifying information—may be made publicly available at any time. While you can ask us in your comment to withhold your personal identifying information from public review, we cannot guarantee that we will be able to do so.

Dated: November 20, 2017.
Jacklynn Gould,
Acting Regional Director, Lower Colorado Region.

[FR Doc. 2017-25662 Filed 11-27-17; 8:45 am]

BILLING CODE 4332-90-P